DEPARTMENT OF ENERGY

Federal Energy Regulatory Commission

Combined Notice of Filings

Take notice that the Commission has received the following Natural Gas Pipeline Rate and Refund Report filings:

Filings Instituting Proceedings

Docket Number: PR19-19-000.

Applicants: Southern California Gas Company.

Description: Tariff filing per 284.123(b),(e)+(g): Offshore Delivery service rate increase filing 11-28 to be effective 11/28/2018.

Filed Date: 11/29/18.

Accession Number: 201811295000.

Comments Due: 5 p.m. ET 12/20/18.

284.123(g) Protests Due: 5 p.m. ET 1/28/19.

Docket Number: PR19-20-000.

Applicants: Louisville Gas and Electric Company.

Description: Tariff filing per 284.123(b),(e)/: Revised Statement of Operating Conditions Revised TCJA Surcredit to be effective 12/1/2018.

Filed Date: 11/29/18.

Accession Number: 201811295049.

Comments/Protests Due: 5 p.m. ET 12/20/18.

Docket Number: PR19-21-000.

Applicants: Aethon United Pipeline LP.

Description: Tariff filing per 284.123(b)(2)+(g): Aethon Rate Petition to be effective 12/1/2018.

Filed Date: 11/30/18.

Accession Number: 201811305025.

Comments Due: 5 p.m. ET 12/21/18.

284.123(g) Protests Due: 5 p.m. ET 1/29/19.

Docket Numbers: RP19-324-000.

Applicants: Algonquin Gas Transmission, LLC.

Description: § 4(d) Rate Filing: Negotiated rate—Yankee to Direct Energy 798289 to be effective 11/29/2018.

Filed Date: 11/29/18.

Accession Number: 20181129-5002.

Comments Due: 5 p.m. ET 12/11/18.

Docket Numbers: RP19-325-000.

Applicants: Algonquin Gas Transmission, LLC.

Description: § 4(d) Rate Filing: Negotiated Rate—Bay to UGI 798295 eff 12-1-18 to be effective 12/1/2018.

Filed Date: 11/29/18.

Accession Number: 20181129-5037.

Comments Due: 5 p.m. ET 12/11/18.

Docket Numbers: RP19-326-000.

Applicants: NEXUS Gas Transmission, LLC.

Description: § 4(d) Rate Filing: Negotiated Rate—CNX to BP Energy 960023 to be effective 12/1/2018.

Filed Date: 11/29/18.

Accession Number: 20181129-5044.

Comments Due: 5 p.m. ET 12/11/18.

Docket Numbers: RP19-327-000.

Applicants: NEXUS Gas Transmission, LLC.

Description: § 4(d) Rate Filing: Negotiated Rate—BP to BP Canada 960024 to be effective 12/1/2018.

Filed Date: 11/29/18.

Accession Number: 20181129-5053.

Comments Due: 5 p.m. ET 12/11/18.

Docket Numbers: RP19-328-000.

Applicants: Transcontinental Gas Pipe Line Company, LLC.

Description: § 4(d) Rate Filing: Rate Schedule S-2 Tracker Filing (ASA) eff 12/1/2018 to be effective 12/1/2018.

Filed Date: 11/29/18.

Accession Number: 20181129-5056.

Comments Due: 5 p.m. ET 12/11/18.

Docket Numbers: RP19-329-000.

Applicants: National Fuel Gas Supply Corporation.

Description: Compliance filing TSCA—Informational Filing (11/29/18).

Filed Date: 11/29/18.

Accession Number: 20181129-5062.

Comments Due: 5 p.m. ET 12/11/18.

Docket Numbers: RP19-330-000.

Applicants: Young Gas Storage Company, Ltd.

Description: § 4(d) Rate Filing: Annual Reimbursement Percentage Update Filing to be effective 1/1/2019.

Filed Date: 11/29/18.

Accession Number: 20181129-5066.

Comments Due: 5 p.m. ET 12/11/18.

Docket Numbers: RP19-331-000.

Applicants: El Paso Natural Gas Company, L.L.C.

Description: § 4(d) Rate Filing: Annual Fuel and L&U Filing 2019 to be effective 1/1/2019.

Filed Date: 11/29/18.

Accession Number: 20181129-5073.

Comments Due: 5 p.m. ET 12/11/18.

Docket Numbers: RP19-332-000.

Applicants: Dominion Energy Questar Pipeline, LLC.

Description: § 4(d) Rate Filing: FGRP 2019 to be effective 1/1/2019.

Filed Date: 11/29/18.

Accession Number: 20181129-5106.

Comments Due: 5 p.m. ET 12/11/18.

Docket Numbers: RP19-333-000.

Applicants: Colorado Interstate Gas Company, L.L.C.

Description: § 4(d) Rate Filing: LUF Quarterly Update Filing to be effective 1/1/2019.

Filed Date: 11/29/18.

Accession Number: 20181129-5107.

Comments Due: 5 p.m. ET 12/11/18.

Docket Numbers: RP19-334-000.

Applicants: Mojave Pipeline Company, L.L.C.

Description: § 4(d) Rate Filing: Annual Fuel and L&U Filing 2019 to be effective 1/1/2019.

Filed Date: 11/29/18.

Accession Number: 20181129-5116.

Comments Due: 5 p.m. ET 12/11/18.

Docket Numbers: RP19-335-000.

Applicants: El Paso Natural Gas Company, L.L.C.

Description: § 4(d) Rate Filing: Article 11.2(a) Inflation Adjustment Filing 2019 to be effective 1/1/2019.

Filed Date: 11/29/18.

Accession Number: 20181129-5120.

Comments Due: 5 p.m. ET 12/11/18.

Docket Numbers: RP19-336-000.

Applicants: NEXUS Gas Transmission, LLC.

Description: § 4(d) Rate Filing: Negotiated Rate—Nextera and ConocoPhillips to be effective 12/1/2018.

Filed Date: 11/29/18.

Accession Number: 20181129-5127.

Comments Due: 5 p.m. ET 12/11/18.

Docket Numbers: RP19-337-000.

Applicants: Iroquois Gas Transmission System, L.P.

Description: § 4(d) Rate Filing: 112918 Negotiated Rates—Twin Eagle Resource Management, LLC H-7300-89 to be effective 12/1/2018.

Filed Date: 11/29/18.

Accession Number: 20181129-5126.

Comments Due: 5 p.m. ET 12/11/18.

Docket Numbers: RP19-338-000.

Applicants: Sierrita Gas Pipeline LLC.

Description: Operational Purchases and Sales Report of Sierrita Gas Pipeline LLC under RP19-338.

Filed Date: 11/29/18.

Accession Number: 20181129-5151.

Comments Due: 5 p.m. ET 12/11/18.

Docket Numbers: RP19-339-000.

Applicants: Chandeleur Pipe Line, LLC, Chandeleur Pipe Line LLC.

Description: Fuel and Line Loss Allowance Calculation of Chandeleur Pipe Line, LLC under RP19-339.

Filed Date: 11/29/18.

Accession Number: 20181129-5152.

Comments Due: 5 p.m. ET 12/11/18.

Docket Numbers: RP19-340-000.

Applicants: Florida Gas Transmission Company, LLC.

Description: § 4(d) Rate Filing: New Service Agreement Ascend filed 11-29-18 to be effective 12/1/2018.

Filed Date: 11/29/18.

Accession Number: 20181129-5187.

Comments Due: 5 p.m. ET 12/11/18.

Docket Numbers: RP19-341-000.

Applicants: Florida Gas Transmission Company, LLC.

Description: § 4(d) Rate Filing: Update Non-Conforming List (Ascend) Filing on 11-29-18 to be effective 12/1/2018.

Filed Date: 11/29/18.

Accession Number: 20181129-5190.

Comments Due: 5 p.m. ET 12/11/18.

Docket Numbers: RP19-342-000.

Applicants: El Paso Natural Gas Company, L.L.C.

Description: § 4(d) Rate Filing: Negotiated Rate Agreements Filing (ETC, EOG, TRMC Dec 18) to be effective 12/1/2018.

Filed Date: 11/29/18.

Accession Number: 20181129-5235.

Comments Due: 5 p.m. ET 12/11/18.

Docket Numbers: RP19-343-000.

Applicants: Texas Eastern Transmission, LP.

Description: § 4(d) Rate Filing: TETLP 2018 Rate Case Filing to be effective 1/1/2019.

Filed Date: 11/30/18.

Accession Number: 20181130-5003.

Comments Due: 5 p.m. ET 12/12/18.

Docket Numbers: RP19-344-000.

Applicants: Equitrans, L.P.

Description: § 4(d) Rate Filing: Negotiated Rate Agreement—Spire LPS 12/1/2018 to be effective 12/1/2018.

Filed Date: 11/30/18.

Accession Number: 20181130-5026.

Comments Due: 5 p.m. ET 12/12/18.

Docket Numbers: RP19-345-000.

Applicants: Alliance Pipeline L.P.

Description: § 4(d) Rate Filing: Hess 2019 Tioga Usage Charge Filing to be effective 1/1/2019.

Filed Date: 11/30/18.

Accession Number: 20181130-5027.

Comments Due: 5 p.m. ET 12/12/18.

Docket Numbers: RP19-346-000.

Applicants: Nautilus Pipeline Company, L.L.C.

Description: § 4(d) Rate Filing: Nautilus FT-2 Form of Service modification to be effective 1/1/2019.

Filed Date: 11/30/18.

Accession Number: 20181130-5031.

Comments Due: 5 p.m. ET 12/12/18.

Docket Numbers: RP19-347-000.

Applicants: MarkWest Pioneer, L.L.C.

Description: § 4(d) Rate Filing: Quarterly Fuel Adjustment Filing to be effective 1/1/2019.

Filed Date: 11/30/18.

Accession Number: 20181130-5034.

Comments Due: 5 p.m. ET 12/12/18.

Docket Numbers: RP19-348-000.

Applicants: Rover Pipeline LLC.

Description: § 4(d) Rate Filing: Summary of Negotiated Rate Capacity Relealse Agreements on 11-30-18 to be effective 12/1/2018.

Filed Date: 11/30/18.

Accession Number: 20181130-5052.

Comments Due: 5 p.m. ET 12/12/18.

Docket Numbers: RP19-349-000.

Applicants: NEXUS Gas Transmission, LLC.

Description: § 4(d) Rate Filing: Negotiated Rate—Chesapeake to Tenaska 960030 eff 12-1-18 to be effective 12/1/2018.

Filed Date: 11/30/18.

Accession Number: 20181130-5062.

Comments Due: 5 p.m. ET 12/12/18.

Docket Numbers: RP19-350-000.

Applicants: Transcontinental Gas Pipe Line Company, LLC.

Description: Compliance filing 2018 Refund Report—Texas Eastern OFO Penalty Sharing (Rate Schedule S-2).

Filed Date: 11/30/18.

Accession Number: 20181130-5065.

Comments Due: 5 p.m. ET 12/12/18.

Docket Numbers: RP19-351-000.

Applicants: Tennessee Gas Pipeline Company, L.L.C.

Description: eTariff filing per 1430: Petition for an Extension of Time to File FERC Form 501-G.

Filed Date: 11/30/18.

Accession Number: 20181130-5076.

Comments Due: 5 p.m. ET 12/4/18.

Docket Numbers: RP19-352-000.

Applicants: Sea Robin Pipeline Company, LLC.

Description: § 4(d) Rate Filing: Sea Robin Section 4 Rate Case to be effective 1/1/2019.

Filed Date: 11/30/18.

Accession Number: 20181130-5078.

Comments Due: 5 p.m. ET 12/12/18.

Docket Numbers: RP19-353-000.

Applicants: Transcontinental Gas Pipe Line Company, LLC.

Description: § 4(d) Rate Filing: Negotiated Rates—Cherokee AGL—Replacement Shippers—Dec 2018 to be effective 12/1/2018.

Filed Date: 11/30/18.

Accession Number: 20181130-5081.

Comments Due: 5 p.m. ET 12/12/18.

Docket Numbers: RP19-354-000.

Applicants: Kern River Gas Transmission Company.

Description: § 4(d) Rate Filing: 2018 December Negotiated Rate Amendment to be effective 12/1/2018.

Filed Date: 11/30/18.

Accession Number: 20181130-5113.

Comments Due: 5 p.m. ET 12/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2018.
Nathaniel J. Davis, Sr.,
Deputy Secretary.

[FR Doc. 2018-26640 Filed 12-7-18; 8:45 am]

BILLING CODE 6717-01-P